DEPARTMENT OF COMMERCE

National Oceanic and Atmospheric Administration

[I.D. 092006C]

Endangered Species; File No. 1581

AGENCY: National Marine Fisheries Service (NMFS), National Oceanic and Atmospheric Administration (NOAA), Commerce.

ACTION: Notice; receipt of application.

SUMMARY: Notice is hereby given that National Marine Fisheries Service, Pacific Islands Fisheries Science Center (Responsible Official- Samuel Pooley, Principal Investigator- George Balazs), 2570 Dole Street, Honolulu, HI 96822, has applied in due form for a permit to take green (Chelonia mydas) and hawksbill (Eretmochelys imbricata) sea turtles for purposes of scientific research.

DATES: Written, telefaxed, or e-mail comments must be received on or before October 27, 2006.

ADDRESSES: The application and related documents are available for review upon written request or by appointment in the following office(s):

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1581.

FOR FURTHER INFORMATION CONTACT: Patrick Opay or Kate Swails, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The applicant proposes to continue long-term monitoring of the status of green and hawksbill turtles in the Hawaiian Islands to determine their abundance, size ranges, health/disease status, diving behavior, habitat use, foraging ecology, local movements, and migration routes. Researchers would annually capture up to 600 green and 10 hawksbill sea turtles by hand, scoop net, entanglement net, and bullpen net. All green sea turtles would be measured, weighed, passive integrated transponder tagged, and flipper tagged. A subset of green sea turtles would have their shell etched with an identification mark, be blood sampled, tissue sampled, lavaged, and have an electronic tag attached to them. Hawksbill sea turtles would be measured, weighed, passive integrated transponder tagged, flipper tagged, blood sampled, and tissue sampled. All animals would be released. Research would take place in the Hawaiian Islands and the permit would be issued for 5 years.

Dated: September 21, 2006.
P. Michael Payne,
Chief, Permits, Conservation and Education Division, Office of Protected Resources, National Marine Fisheries Service.

[FR Doc. E6-15826 Filed 9-26-06; 8:45 am]

BILLING CODE 3510-22-S